DEPARTMENT OF ENERGY

Federal Energy Regulatory Commission

[Docket No. CP06-459-000]

Transwestern Pipeline Company, LLC; Notice of Application

September 21, 2006.

Take notice that on September 15, 2006, Transwestern Pipeline Company, LLC (Transwestern), 5444 Westheimer Road, Houston, Texas 77056-5306, filed an application under section 7(c) of the Natural Gas Act (NGA) and parts 157 and 284 of the Commission's regulations, seeking authority to construct and operate: (i) Approximately 25 miles of 36-inch diameter pipeline loop in two segments on its existing San Juan Lateral in San Juan and McKinley Counties, New Mexico (San Juan 2008 Expansion Project), (ii) a new 259-mile pipeline consisting of 36-inch and 42-inch diameter pipe extending southward from Transwestern's existing mainline near Ash Fork in Yavapai County, Arizona through Coconino and Maricopa Counties, Arizona and terminating at the beginning of El Paso Natural Gas Company's (El Paso) East Valley Lateral near the City of Coolidge in Pinal County, Arizona (Phoenix Pipeline), and (iii) customer laterals, meter stations, and ancillary facilities (Phoenix Pipeline Project). In addition, Transwestern seeks authority to acquire an undivided interest in the East Valley Lateral and to use such facilities to render service in conjunction with the Phoenix Pipeline Project. The projects are collectively known as the Phoenix Expansion Project, all as more fully set forth in the application which is on file with the Commission and open for public inspection. These filings are available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Transwestern states that the purpose of the Phoenix Expansion Project is to provide up to 500,000 dth per day of firm natural gas transportation service from the San Juan Basin to markets in the Phoenix area. Transwestern states that it has entered into binding precedent agreements with 5 shippers for 370,000 dth per day of this capacity. The total estimated costs of the Phoenix Pipeline Project and San Juan 2008 Expansion are $597,737,942 and $62,377,862, respectively. Transwestern seeks approval of its proposal to provide service on the Phoenix Pipeline Project under new Rate Schedules FTS-5 and ITS-2 and seeks a pre-determination that the costs of the San Juan 2008 Expansion costs may be rolled-in to its existing rates under Rate Schedule FTS-4.

Any questions regarding this application should be directed to Stephen T. Veatch, Senior Director, Certificates and Tariffs, Transwestern Pipeline Company, LLC, 5444 Westheimer Road, Houston, Texas 77056-5306; (713) 989-2024.

On November 22, 2005, the Director of the Office of Energy Projects granted Transwestern's request to utilize the National Environmental Policy Act (NEPA) Pre-Filing Process and assigned Docket No. PF06-4-000 to staff activities involving Transwestern's expansion project. Now, as of the filing of Transwestern's application on September 15, 2006, the NEPA Pre-Filing Process for this project has ended. From this time forward, Transwestern's proceeding will be conducted in Docket No. CP06-459-000, as noted in the caption of this Notice.

There are two ways to become involved in the Commission's review of this project. First, any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Motions to intervene, protests and comments may be filed electronically via the Internet in lieu of paper; see, 18 CFR 385.2001(a)(1)(iii) and the instructions on the Commission's Web site under the “e-Filing” link. The Commission strongly encourages electronic filings.

Comment Date: October 12, 2006.

Magalie R. Salas,
Secretary.

[FR Doc. E6-15817 Filed 9-26-06; 8:45 am]

BILLING CODE 6717-01-P